NATIONAL FOUNDATION ON THE ARTS AND THE HUMANITIES

National Endowment for the Arts

Arts Advisory Panel Meetings

AGENCY: National Endowment for the Arts; National Foundation on the Arts and the Humanities.

ACTION: Notice of meetings.

SUMMARY: Pursuant to the Federal Advisory Committee Act, as amended, notice is hereby given that 8 meetings of the Arts Advisory Panel to the National Council on the Arts will be held by teleconference or videoconference.

DATES: See the SUPPLEMENTARY INFORMATION section for individual meeting times and dates. All meetings are Eastern time and ending times are approximate:

ADDRESSES: National Endowment for the Arts, Constitution Center, 400 7th St. SW, Washington, DC 20506.

FOR FURTHER INFORMATION CONTACT: Further information with reference to these meetings can be obtained from Daniel Beattie, Office of Guidelines & Panel Operations, National Endowment for the Arts, Washington, DC 20506; beattied@arts.gov, or call 202/682-5688.

SUPPLEMENTARY INFORMATION: The closed portions of meetings are for the purpose of Panel review, discussion, evaluation, and recommendations on financial assistance under the National Foundation on the Arts and the Humanities Act of 1965, as amended, including information given in confidence to the agency. In accordance with the determination of the NEA Chair of March 11, 2022, these sessions will be closed to the public pursuant to subsection (c)(6) of section 552b of title 5, United States Code.

The upcoming meetings are:

Folk & Traditional Arts Panel (review of applications): This meeting will be closed.

Date and time: August 2, 2022; 1:00 p.m. to 3:00 p.m.

Literary Arts Panel (review of applications): This meeting will be closed.

Date and time: August 3, 2022; 1:00 p.m. to 3:00 p.m.

Literary Arts Panel (review of applications): This meeting will be closed.

Date and time: August 4, 2022; 1:00 p.m. to 3:00 p.m.

Folk & Traditional Arts Panel (review of applications): This meeting will be closed.

Date and time: August 4, 2022; 1:00 p.m. to 3:00 p.m.

Folk & Traditional Arts Panel (review of applications): This meeting will be closed.

Date and time: August 5, 2022; 1:00 p.m. to 3:00 p.m.

National Heritage Fellowships Panel (review of nominations): This meeting will be closed.

Date and time: August 9, 2022; 1:00 p.m. to 3:00 p.m.

Musical Theater Songwriting Challenge Panel (review of applications): This meeting will be closed.

Date and time: August 17, 2022; 2:00 p.m. to 4:00 p.m.

Independent Film and Media Arts Field-Building Initiative Panel (review of applications): This meeting will be closed.

Date and time: August 31, 2022; 2:00 p.m. to 4:00 p.m.

Dated: July 15, 2022.
Daniel Beattie,
Director, National Endowment for the Arts.

[FR Doc. 2022-15511 Filed 7-19-22; 8:45 am]

BILLING CODE 7537-01-P